DEPARTMENT OF COMMERCE

International Trade Administration

[A-570-933]

Frontseating Service Valves From the People's Republic of China: Extension of Time for the Preliminary Results of the Antidumping Duty Administrative Review

AGENCY: Import Administration, International Trade Administration, Department of Commerce.

DATES: Effective Date: December 13, 2011.

FOR FURTHER INFORMATION CONTACT: Laurel LaCivita or Brooke Kennedy, AD/CVD Operations, Office 8, Import Administration, International Trade Administration, U.S. Department of Commerce, 14th Street and Constitution Avenue NW., Washington, DC 20230; telephone: (202) 482-4243 or (202) 482-3818, respectively.

SUPPLEMENTARY INFORMATION:

Background

On May 27, 2011, the Department of Commerce (“the Department”) published in the Federal Register a notice of initiation of an administrative review of the antidumping duty order on frontseating service valves for Zhejiang Sanhua Co., Ltd. and Zhejiang DunAn Hetian Metal Co., Ltd. for the period April 1, 2010, through March 31, 2011. See Initiation of Antidumping and Countervailing Duty Administrative Reviews, 76 FR 30912 (May 27, 2011). The preliminary results of review are currently due no later than December 31, 2011.

Extension of Time Limit of Preliminary Results

Pursuant to section 751(a)(3)(A) of the Tariff Act of 1930, as amended (“the Act”), the Department shall make a preliminary determination in an administrative review of an antidumping duty order within 245 days after the last day of the anniversary month of the date of publication of the order. The Act further provides, however, that the Department may extend that 245-day period to 365 days if it determines it is not practicable to complete the review within the foregoing time period.

We determine that completion of the preliminary results of this review within the 245-day period is not practicable because the Department requires additional time to analyze information pertaining to the respondents' sales practices, factors of production, as well as issue and review responses to supplemental questionnaires. Therefore, we require additional time to complete these preliminary results. As a result, in accordance with section 751(a)(3)(A) of the Act, the Department is extending the time period for completion of the preliminary results of this review by 90 days until March 30, 2012.

This notice is published in accordance with sections 751(a)(3)(A) and 777(i)(1) of the Act.

Dated: December 6, 2011.
Christian Marsh,
Deputy Assistant Secretary for Antidumping and Countervailing Duty Operations.

[FR Doc. 2011-31939 Filed 12-12-11; 8:45 am]

BILLING CODE 3510-DS-P